DEPARTMENT OF TRANSPORTATION

National Highway Traffic Safety Administration

[Docket No. NHTSA-2022-0043]

Agency Information Collection Activities; Notice and Request for Comment; Consolidated Labeling Requirements for Motor Vehicles (Except the VIN)

AGENCY: National Highway Traffic Safety Administration (NHTSA), Department of Transportation (DOT).

ACTION: Notice and request for comments on a request for extension of a currently-approved information collection.

SUMMARY: The National Highway Traffic Safety Administration (NHTSA) invites public comments about our intention to request the Office of Management and Budget (OMB) approval to renew an information collection. Before a Federal agency can collect certain information from the public, it must receive approval from OMB. Under procedures established by the Paperwork Reduction Act of 1995, before seeking OMB approval, Federal agencies must solicit public comment on proposed collections of information, including extensions and reinstatement of previously approved collections. This document describes a collection of labeling information on seven Federal Motor Vehicle Safety Standards (FMVSS) for which NHTSA intends to seek OMB approval. The labeling requirements include brake fluid warning, glazing labeling, air bag warning labels, seat belt labeling, compressed natural gas (CNG) vehicle fuel label, and CNG fuel container labels.

DATES: Comments must be submitted on or before September 26, 2022.

ADDRESSES: You may submit comments, identified by the NHTSA docket number identified above, through any of the following methods:

• Federal eRulemaking Portal: http://www.regulations.gov. Follow the online instructions for submitting comments.

• Fax: 1-202-493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact James Myers, NHTSA, 1200 New Jersey Avenue SE, West Building, Room W43-320, NRM-100, Washington, DC 20590. Mr. Myers' telephone number is 202-366-1810. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Consolidated Labeling Requirements for Motor Vehicles (except the VIN).

OMB Control Number: 2127-0512.

Type of Request: Extension of a currently approved collection.

Type of Review Requested: Regular.

Summary of the Collection of Information: 49 U.S.C. 30111 authorizes the issuance of Federal motor vehicle safety standards (FMVSS). The agency, in prescribing a FMVSS, considers available relevant motor vehicle safety data, and consults with other agencies, as it deems appropriate. Further, the statute mandates that in issuing any FMVSS, the agency considers whether the standard is “reasonable, practicable and appropriate for the particular type of motor vehicle or item of motor vehicle equipment for which it is prescribed,” and whether such a standard will contribute to carrying out the purpose of the Act.

The Secretary is authorized to invoke such rules, as deemed necessary to carry out these requirements. Using this authority, the agency issued the following FMVSS, specifying labeling requirements to aid the agency in achieving many of its safety goals:

FMVSS No. 105, “Hydraulic and electric brake systems,”

FMVSS No. 135, “Light vehicle brake systems,”

FMVSS No. 205, “Glazing materials,”

FMVSS No. 208, “Occupant crash protection,”

FMVSS No. 209, “Seat belt assemblies,”

FMVSS No. 303, “Fuel system integrity of compressed natural gas vehicles,” and

FMVSS No. 304, “Compressed natural gas fuel container integrity.”

This notice requests comments on the labeling requirements of these FMVSS.

FMVSS No. 105 and FMVSS No. 135 require that each vehicle shall have a brake fluid warning statement in letters at least one-eighth of an inch high on the master cylinder reservoirs. The lettering shall be permanently affixed, engraved, or embossed and located so as to be visible by direct view. If not engraved or embossed, it should be a color that contrasts with its background.

Vehicle manufacturers provide warning statements on hydraulic brake reservoirs for an estimated 1,003 vehicle models.¹ Although the required statements have been in use for many years, there is an annual 1 hour burden for manufacturers to have a Mechanical Drafter ² reverify that their statements still meet the regulatory requirements. The annual burden for this reverification is 1,003 hours (1,003 vehicle model lines * 1 hour per model line) and $40,476 (1,003 vehicle models * 1 hour per label * $28.37 labor rate per hour ÷ 70.3% of labor rate as total wage compensation). Manufacturers will also bear a cost burden of $296,372 (17,961,961 brake reservoir caps/plugs * 1.1 spare parts factor * $0.015 per part) for the required labeling text to be applied to the hydraulic reservoir plugs and caps. The combined total annual burden for vehicle manufacturers to have the specified text on the hydraulic reservoir plugs and caps is 1,003 hours and $296,372. This is an increase in the cost burden of 265,328 due to adjustments in annual vehicles produced and addition of the per part expenses.

¹ 1,003 vehicle model lines equals 645 heavy vehicle models with a GVWR of 3,500 kilograms (7,716 pounds) or less and 358 light vehicle models with a GVWR greater than 3,500 kilograms (7,716 pounds).

² The Bureau of Labor Statistics (BLS) estimates the mean hourly wage for a Mechanical Drafter, occupational code 17-3013, to be $28.37. Further, the BLS estimates the hourly wage to represent only 70.3% of the total compensation for workers.

FMVSS No. 205, provides labeling requirements for glazing and motor vehicle manufacturers. In accordance with the standard, each new motor vehicle glazing manufacturer must request a unique identifying number. This number is used in their self-certification label, which also identifies the glazing type, and is permanently attached to each piece of motor vehicle glazing. Certain specialty glazing items, such as standee windows in buses, roof openings, and interior partitions made of plastic require that the manufacturer affix an additional, removable label to each item. This removable label specifies cleaning instructions to minimize the loss of transparency. Other information may be provided by the manufacturer.

Glazing manufacturers are required to have a DOT manufacturer's code mark for each of their glazing production facilities. This code mark is part of the manufacturer's certification label applied to glazing covered by FMVSS No. 205. An average of 22 glazing manufacturers annually complete an online request for a new DOT manufacturer's code mark. New code mark applications take an hour for a Project Management or Business Operations Specialist,³ to complete. This places an annual burden on applicants of 22 hours (22 manufacturers * 1 hour per manufacturer) and $1,268 (22 hours * $40.53 per hour wage ÷ 70.3% of labor rate as total wage compensation) to obtain new DOT manufacturer's code marks. In addition, it is estimated a Mechanical Drafter ⁴ will require 40.0 hours to develop a certification label template for a new code mark, for an annual burden of 880 hours (22 manufacturers * 40.0 hours per manufacturer) and $35,513 (22 manufacturers * 40 hours per manufacturer * $28.37 per hour wage ÷ 70.3% of labor rate as total wage compensation). All glazing manufacturers will annually require 2.0 hours for a Mechanical Drafter to insert and verify correct information for each certification label for the estimated 9,452 ⁵ glazing model lines produced annually, for a burden of 18,904 hours (2.0 hours per glazing certification label * 9,452 glazing model needing certification label) and $762,883 (9,452 glazing model labels * 2.0 hours per glazing model label * $28.37 per hour wage ÷ 70.3% of labor rate as total wage compensation). Two different labeling methods are used by the industry, ceramic paint (90% of market) and sand blasting (10% of market). Annually, vehicle manufacturers bear a cost burden of $2,825,732 ([142,713,747 vehicle glazing panels ⁶ * 1.1 spare parts factor * $0.015 per part * 90%] + [142,713,747 vehicle glazing panels * 1.1 spare parts factor * $0.045 per part * 10%]) to apply the required certification label to glazing panels.

³ The Bureau of Labor Statistics (BLS) estimates the mean hourly wage for a Project Management or Business Operations Specialists, occupational code 13-1198, to be $40.53. Further, the BLS estimates the hourly wage to represent only 70.7% of the total compensation for workers.

⁴ The Bureau of Labor Statistics (BLS) estimates the mean hourly wage for a Mechanical Drafter, occupational code 17-3013, to be $28.37. Further, the BLS estimates the hourly wage to represent only 70.3% of the total compensation for workers.

⁵ It is estimated that there are 174 passenger vehicle models (per 2020 Wards Intelligence data) requiring 8 glazing model numbers, 184 light truck models requiring 15 glazing model numbers, 51 medium/heavy truck models requiring 9 glazing model numbers, 156 light and medium bus models requiring 8 glazing models, 284 motorcycle models requiring 1 glazing model, 108 slide-in camper models requiring 2 glazing model numbers, 438 camper models requiring 7 glazing model numbers, and 9 pick-up bed covers requiring 3 glazing models. The total estimated number of glazing model numbers is 9,452 [(174 * 8) + (184 * 15) + (51 * 9) + (156 * 8) + (284 * 1) + (108 * 2) + (438 * 7) + (9 * 3)].

⁶ It is estimated that there are 4,715,005 passenger cars each with 8 glazing units, 12,237,907 light truck vehicles each with 15 glazing units, 527,092 medium/heavy truck vehicles each with 9 glazing units, 17,200 medium and heavy bus vehicles each with 8 glazing units, 472,000 motorcycles each with 1 glazing unit, 11,000 slide-in campers each with 2 glazing units, 464,757 campers each with 7 glazing units, and 8,000 pick-up bed covers each with 4 glazing units. The total estimated number of glazing model numbers is 142,713,747 [(4,715,005 * 8) + (12,237,907 * 8) + (527,092 * 6) + (17,200 * 8) + (472,000 * 1) + (11,000 * 3) + (464,757 * 7) + (8,000 * 4)].

Certain types of glazing material, generally used in standee partitions of transit buses, require a cleaning label. Although the required statements have been in use for many years, there is an annual 1 hour burden for manufacturers to have a Mechanical Drafter reverify their statements still meet the regulatory requirements. This adds a burden of 36 hours and $1,453 (36 glazing cleaning labels ⁷ ⁸ * 1.0 hours per cleaning label * $28.37 per hour wage ÷ 70.3% of labor rate as total wage compensation). Application of cleaning labels to the those glazing panels adds a cost burden of $12,770 (1 label per applicable glazing panel * 2 applicable panels per bus * 5,300 transit buses ⁹ * $0.73 per label cost). The total annual burden due to labeling requirements of FMVSS No. 205 is 19,842 hours and $3,639,619.

⁷ There are 36 manufacturers producing transit buses. Source: David Czerwinski et al., The US Transit Bus Manufacturing Industry (Mineta Transportation Institute, 2016), 10.

⁸ Each manufacturer can use a common cleaning label for all of their vehicle models.

⁹ David Czerwinski et al., The US Transit Bus Manufacturing Industry (Mineta Transportation Institute, 2016), 10.

FMVSS No. 208, specifies requirements for both active and passive occupant crash protection systems for passenger cars, multipurpose passenger vehicles, trucks, and small buses. A label is to be affixed to either side of the sun visor at each front outboard seating position that is equipped with an inflatable restraint. The label warns of dangers a deploying air bag poses to children 12 and under. Each vehicle that is equipped with an inflatable restraint for the passenger position shall have a label attached to a location on the dashboard or steering wheel hub that is clearly visible from all front seating positions. These labels advise occupants to always use seat belts, the back seat is the safest place for children, and to never place a rear-facing child seat in the front. Additionally, if a vehicle manufacturer recommends periodic maintenance or replacement of an inflatable restraint system installed in a vehicle, that vehicle must be labeled with the recommended schedule for maintenance or replacement.

It is estimated that vehicle manufacturers provide air bag warning labels for 565 vehicle models. Text and graphics for the warning labels are supplied in the Regulatory text, and these labels have been in use for many years. A Mechanical Drafter ¹⁰ performs the 1 hour of annual work per vehicle model necessary to confirm the label design prior to it being printed onto sun visors. The annual burden to manufacturers for the warning label reviews is 565 hours (565 vehicle model lines * 1 hour per model line) and $11,268 (565 vehicle models ¹¹ * 1 hour per label * $28.35 labor rate per hour ÷ 70.3% of labor rate as total wage compensation). Annually, vehicle manufacturers bear a cost burden of $8,772,284 (34,977,208 sun visors ¹² * 1.1 spare parts factor * $0.228 per part cost for label application) to apply the required warning labels to sun visors.

¹⁰ The Bureau of Labor Statistics (BLS) estimates the mean hourly wage for a Mechanical Drafter, occupational code 17-3013, to be $29.09. Further, the BLS estimates the hourly wage to represent only 70% of the total compensation for workers.

¹¹ NHTSA estimates there are 565 vehicle models requiring sun visor labels annually (174 passenger car, 185 light truck, 51 medium/heavy truck, and 156 large/medium bus models). Vehicle model data from 2020 Wards Intelligence data.

¹² NHTSA estimates there are a total of 38,474,929 sun visors with warning labels produced annually. This total includes 2 warning labels in the 4,715,005 passenger cars: 12,237,907 light truck vehicles, and 527,092 medium and heavy trucks. There is a sun visor with an air bag warning label in each of the 17,200 medium and heavy buses [ 2* (4,715,005 + 12,237,907 + 527,092) + 1 * (17,200)].

Vehicle manufacturers provide an estimated 565 vehicle models with dashboard warning labels. Text and graphics for the dashboard labels are supplied in the Regulatory text, and these labels have been in use for many years. A Mechanical Drafter performs the 1 hour of annual work per vehicle model necessary to confirm the dashboard label design. The annual burden to manufacturers for the dashboard label reviews is 565 hours (565 vehicle model lines * 1 hour per model line) and $11,268 (565 vehicle models ¹³ * 1 hour per label * $28.35 labor rate per hour ÷ 70.3% of labor rate as total wage compensation). Annually, vehicle manufacturers bear a cost burden of $9,897,386 (17,497,204 vehicle dashboards ¹⁴ * 1.1 spare parts factor * $0.472 per dashboard warning label) to have the required warning labels on dashboards.

¹³ NHTSA estimates there are 565 vehicle models requiring sun visor labels annually (174 passenger car, 185 light truck, 51 medium/heavy truck, and 156 large/medium bus models). Vehicle model data from 2020 Wards Intelligence data.

¹⁴ Only one dashboard warning per vehicle is required. The number of dashboard labels is half the number of sun visor labels. NHTSA estimates there are 14,497,204 dashboard warning labels produced annually.

No vehicle manufacturers are currently using air bags that require replacement or periodic maintenance. Since no manufacturers equip vehicles with air bags requiring maintenance or replacement, there is no annual administrative burden to include such information on any vehicle label.

The combined total annual burden to vehicle manufacturers from the dashboard and sun visor warning labels is 1,130 hours and $17,879,368. These hour and cost burdens represent a new addition to this information collection request.

FMVSS No. 209 requires safety belts to be labeled with the year of manufacture, the model, and the name or trademark of the manufacturer.¹⁵ Additionally, seat belt assemblies for use only in specifically stated motor vehicles, other than a seat belt assembly installed in a motor vehicle by an automobile manufacturer, shall either be permanently and legibly marked or labeled with the following statement, or the statement shall be in the instruction sheet required for seat belt assemblies not installed in a motor vehicle by an automotive manufacturer:

¹⁵ FMVSS No. 209, S4.1(j).

This seat belt assembly is for use only in [insert specific seating position(s), e.g., “front right”] in [insert specific vehicle make(s) and model(s)].¹⁶

¹⁶ FMVSS No. 209, S4.1(k).

It is estimated manufacturers choose to include this statement in installation instruction sheets required for spare parts as a more cost-efficient method compared to labeling all seat belt assemblies for a particular vehicle model.

It is estimated that vehicle manufacturers provide labels on 4,139 ¹⁷ different seat belt assembly models. Manufacturers have provided seat belt assemblies with the required labels for many years. It is estimated each manufacturer has a generalized label template which only requires population with the correct model number and manufacturing date. There is an annual 2.0 hour burden for manufacturers to have a Mechanical Drafter put the correct information into a label template to create a model specific label. The annual burden for this label creation is 8,278 hours (4,139 seat belt models * 2 hour per model label) and $334,064 (4,139 seat belt models * 2 hour per model label * $28.37 labor rate per hour ÷ 70.3% of labor rate as total wage compensation). Manufacturers will also bear a cost burden of $4,287,219 (112,970,199 ¹⁸ seat belt assemblies * 1.1 spare parts factor * $0.035 per label) for the required labels to be attached to the seat belt assemblies.

¹⁷ For the estimated 174 passenger car, 184 light truck, 51 medium/heavy truck, 156 medium/heavy bus, and 438 camper models there are an estimated average of 5, 7, 5, 3, and 2 unique seat belt assemblies, respectively, per vehicle type. Additionally, it is estimated there are approximately 376 non-OEM aftermarket seat belt assembly models sold annually. Each seat belt assembly has 1 label per seat belt assembly model. This equates to a total of 4,376 unique seat belt assembly model labels.

¹⁸ It is estimated that there are 4,715,005 passenger cars each with 5 unique seat belt assemblies; 12,237,907 light truck vehicles each with 7 unique seat belt assemblies; 527,092 medium/heavy truck vehicles each with 6 glazing units, 17,200 medium and heavy bus vehicles each with 3 unique seat belt assemblies; and 464,757 campers each with 2 unique seat belt assemblies. Additionally, it is estimated that 50,000 non-OEM aftermarket seat belt assemblies are produced each yeat. The total estimated number of seat belt assemblies is 112,920,199 [(4,715,005 * 5) + (12,237,907 * 7) + (527,092 * 5) + (17,200 * 3) + (464,757 * 2) + (50,000)].

The combined total annual burden to vehicle manufacturers from the requirements to have the specified label text on seat belt assemblies is 8,278 hours and $4,621,283. This is an increase in the cost burden of $4,558,103 due to the adjustments in the number of vehicles produced annually and accounting for the per part expense.

FMVSS NO. 303 specifies requirements for the integrity of motor vehicle fuel systems using compressed natural gas (CNG), including the CNG fuel systems of bi-fuel, dedicated, and dual fuel CNG vehicles. Each CNG must have a permanent label which lists the CNG service pressure and a statement directing vehicle users/operators to instructions for inspection and service life of the fuel container.

It is estimated that vehicle manufacturers provide labels on 18 different CNG vehicle models. Manufacturers have provided CNG vehicles with the required labels for many years, it is estimated each manufacturer has a generalized label template which only requires population with the correct model number and manufacturing date. There is an annual 1.0 hour burden for manufacturers to have a Mechanical Drafter put the correct information into a label template to create a model specific label. The annual burden for this label creation is 18 hours (18 CNG vehicle model labels * 1 hour per model label) and $726 (18 CNG vehicle model labels * 1 hour per model label * $28.37 labor rate per hour ÷ 703% of labor rate as total wage compensation). Manufacturers will also bear a cost burden of $3.651 (5,000 CNG vehicles * $0.73 per label) for the required labels to be attached to the CNG vehicles. The combined total annual burden to vehicle manufacturers from the requirements to have the specified label text on CNG vehicles is 18 hours and $4,377. These hour and cost burdens represent a new addition to this information collection request.

FMVSS No. 304 specifies requirements for the integrity of compressed natural gas (CNG), motor vehicle fuel containers. Each CNG fuel container must have a permanent label containing information relating to the proper use, installation, and maintenance of the CNG container.

It is estimated that manufacturers provide labels on 100 different CNG container models. Manufacturers have provided CNG containers with the required labels for many years. It is estimated each manufacturer has a generalized label template which only requires population with the correct model number and manufacturing date. There is an annual 1.0 hour burden for manufacturers to have a Mechanical Drafter put the correct information into a label template to create a model specific label. The annual burden for this label creation is 100 hours (100 CNG container model labels * 1.0 hours per model label) and $4,036 (100 CNG container models labels * 1.0 hours per model label * $28.37 labor rate per hour ÷ 70.3% of labor rate as total wage compensation). Manufacturers will also bear a cost burden of $14,603 (20,000 CNG containers * $0.730 per label) for the required labels to be attached to the CNG vehicles. The combined total annual burden to vehicle manufacturers from the requirements to have the specified label text on CNG containers is 100 hours and $18,639. These hour and cost burdens represent a new addition to this information collection request.

Description of the Need for the Information and Proposed Use of the Information: All labeling included in this collection is placed on motor vehicle equipment at the time it is manufactured. All safety labeling requirements are necessary for vehicle use on the nation's highways. The lack of labeling could allow improper items of motor vehicle equipment to be installed on motor vehicles and could be the subject of failures or inadequate injury mitigations—increasing the risk for vehicle crashes, severe injuries, and even deaths. Lack of airbag warning labels could encourage placement of children in the front passenger seating position, where the child would be less safe in an accident than if placed in a back-row seating position. The lack of CNG container labeling could result in improper use of CNG containers resulting in a fire or explosion.

As for the identification of glazing manufacturers, the collection of information is only required one time. Absence of this DOT code mark would mean the glazing material would be available to the public without manufacturer's proof that the material passed minimum safety standards. Additionally, if the information were not collected, the ability to determine the identification of the glazing manufacturer in crashes involving defects would be placed in jeopardy.

Affected Public: Vehicle manufacturers.

Estimated Number of Respondents: 22.

Frequency: On occasion.

Number of Responses: NHTSA anticipates that approximately 22 new prime glazing manufacturers per year will contact the agency and request a manufacturer identification number. These new glazing manufacturers must submit one application, one time, identifying their company. In turn, the agency responds by assigning them a unique manufacturer number. For other collections in this notice, no response is necessary from manufacturers. These labels are only required to be placed on each master cylinder reservoir, glazing pane, sun visor, and each safety belt intended for retail sale in the United Sates. Therefore, the number of respondents is limited to the glazing manufacturers requesting a manufacturer identification number.

Estimated Total Annual Burden Hours: 30,371.

Estimated Total Annual Burden Cost: $26,334,780.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Raymond R. Posten,
Associate Administrator for Rulemaking.

[FR Doc. 2022-16021 Filed 7-25-22; 8:45 am]

BILLING CODE 4910-59-P